DEPARTMENT OF THE INTERIOR

Bureau of Reclamation

[RR03040000, 23XR0680A1, RX187860005004001]

Colorado River Reservoir Operations: Development of Post-2026 Operational Guidelines and Strategies for Lake Powell and Lake Mead

AGENCY: Bureau of Reclamation, Interior.

ACTION: Notice of availability.

SUMMARY: The Department of the Interior (Department) has issued a Scoping Summary Report on the Development of Post-2026 Operational Guidelines and Strategies for Lake Powell and Lake Mead. The Scoping Summary Report provides a summary of the comments received during the public scoping process and describes the Department's current, preliminary assessment of the proposed federal action, purpose and need, and scope of the environmental analysis to be included in the draft environmental impact statement (DEIS). The Department anticipates the DEIS will be published in December 2024 for public review.

ADDRESSES: The Scoping Summary Report is available on the Bureau of Reclamation's website at https://www.usbr.gov/ColoradoRiverBasin/post2026/scoping/index.html. Printed copies of the report are available upon request from the point of contact listed in the FOR FURTHER INFORMATION CONTACT section of this notice.

FOR FURTHER INFORMATION CONTACT: Amanda Erath, Colorado River Post-2026 Program Coordinator, Bureau of Reclamation, at (303) 445-2766, or by email at crbpost2026@usbr.gov. Please also visit the project website at https://www.usbr.gov/ColoradoRiverBasin/post2026/index.html. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Pursuant to the National Environmental Policy Act (NEPA) of 1969, as amended, and the Council on Environmental Quality's Regulations for Implementing the Procedural Provisions of NEPA, the Department is publishing the Scoping Summary Report as a voluntary effort to assist in public understanding of this important NEPA process. Based on the information summarized in the report, the Department is preparing a DEIS starting with the development of a reasonable range of alternatives that are technically and economically feasible and meet the purpose and need for the proposed federal action (40 CFR part 1508). Considering public input received to date, the Department's current, preliminary assessment of the proposed federal action, purpose and need, and scope of the environmental analysis to be included in the DEIS are described below and in the Scoping Summary Report.

Proposed Federal Action

The Bureau of Reclamation, acting on behalf of the Secretary of the Interior (Secretary), proposes to take action to adopt specific guidelines and coordinated reservoir management strategies to address operations of Lake Powell and Lake Mead through their full operating range. This action would provide improved predictability to all water users and managers in the Colorado River Basin by developing and adopting objective guidelines for the operation of Glen Canyon Dam and Hoover Dam to take effect when the current operating guidelines (the 2007 Colorado River Interim Guidelines for Lower Basin Shortages and Coordinated Operations for Lake Powell and Lake Mead [2007 Interim Guidelines]) expire in 2026. In addition, this action is designed to provide for the sustainable management of the Colorado River system and its resources under a wide range of potential future system conditions due to a changing climate.

Based on public input, the Department anticipates the guidelines would include the following elements:

(1) Identification of circumstances under which the Secretary would allocate, reduce, or increase the annual amount of water available for consumptive use from Lake Mead to the Lower Division states (Arizona, California, and Nevada) at, below, or above 7.5 million acre-feet, pursuant to the Supreme Court Decree in Arizona v. California.¹

¹ The Department intends to meet any consultation requirements identified in Article II(B)(3) of the Supreme Court Decree in Arizona v. California through the ongoing NEPA process initiated by the Federal Register Notice of June 16, 2023 (88 FR 39455-39458) and the annual implementation of guidelines developed through this process.

(2) Coordinated operations of Lake Powell and Lake Mead, particularly under low reservoir conditions.

(3) Storage and delivery of conserved water in Lake Mead and/or Lake Powell to increase the flexibility to meet water use needs from both reservoirs, including the storage and delivery of non-system water; exchanges; and water conserved through extraordinary measures by or for tribal, agricultural, or municipal entities.

The proposed federal action allows for development of robust operating guidelines for Lake Powell and Lake Mead without precluding upstream or downstream actions needed to protect critical reservoir elevations at Lake Powell and Lake Mead, such as the following:

• Approaches that consider total system storage in all major Colorado River reservoirs and/or actual inflows to determine coordinated operations of Lake Powell and Lake Mead.

• Approaches that include opportunities for conservation, augmentation, demand management, or other water management strategies.

• Approaches that include opportunities for conservation, augmentation, demand management, or other water management strategies.

• Temporary emergency response operations at upstream Colorado River reservoirs to protect critical infrastructure at Glen Canyon Dam, so long as the project-specific operations of those reservoirs remain within their respective Records of Decision.

The Department intends that the guidelines be interim in nature and extend for at least the same duration as the 2007 Interim Guidelines (approximately 20 years), subject to further consideration during the NEPA process. Adoption of new guidelines for an interim (or limited) period provides the opportunity to gain additional experience for operating the reservoirs, thereby informing future operational and water management decisions.

Recognizing additional authorities may be developed, it is the intent of the Department to adopt and implement the guidelines in a manner consistent with the Law of the River.² It is also the intent of the Department that the guidelines be used to implement the Criteria for Coordinated Long-Range Operation of Colorado River Reservoirs Pursuant to the Colorado River Basin Project Act of September 30, 1968 (LROC).

² The treaties, compacts, decrees, statutes, regulations, contracts, and other legal documents and agreements applicable to the allocation, appropriation, development, exportation, and management of the waters of the Colorado River Basin are often referred to as the “Law of the River.” There is no single, universally-agreed upon definition of the “Law of the River,” but it is useful as a shorthand reference to describe this longstanding and complex body of legal agreements governing the Colorado River.

Purpose and Need for the Proposed Federal Action

In accordance with NEPA implementing regulations, a statement of purpose and need is required in an EIS to explain why the agency is proposing the action. The “need” for the action may be described as the underlying problem or opportunity to which the agency is responding with the action; the “purpose” may refer to the goal or objective that the agency is trying to achieve (43 CFR 46.420).

The proposed federal action is needed for the following reasons:

• The Secretary is legally required to coordinate operations of Colorado River reservoirs: The Colorado River Basin Project Act of 1968 directs the Secretary to propose criteria for the coordinated long-range operation of Colorado River reservoirs. In compliance with this obligation, the LROC were developed and adopted by the Secretary in 1970. The LROC provide general narrative guidance regarding Lake Powell and Lake Mead operations but does not contain specific, objective criteria to guide annual operations. To address this inadequacy, the 2007 Interim Guidelines were developed to provide objective criteria used by the Department to implement the LROC. These guidelines have provided predictability needed by the entities that receive Colorado River water to better plan for and manage available water supplies from the Colorado River and other sources.

• 2007 Interim Guidelines are expiring: Current operational guidelines expire during the 2026 operating year. The Department has determined that specific, objective operational guidelines are important to provide improved predictability and should be established for another interim period beyond 2026.

• 2007 Interim Guidelines have not sufficiently reduced risk: Based on operational experience since 2007, the current guidelines are not robust enough to manage in a way that is sufficiently protective of the resources dependent on the Colorado River. Despite near-continuous drought-response actions in recent years, low-reservoir conditions have persisted and new infrastructure risks at Glen Canyon Dam have arisen. More robust and adaptive guidelines are needed for the efficient and sustainable management of the major mainstream Colorado River reservoirs and system resources.

• Imbalance between water supply and demand will be exacerbated by increasingly likely low-runoff conditions: Climate science indicates the Colorado River Basin is experiencing climate-change induced aridification and that long-term and sustained drought and low-runoff conditions should be expected in the future. These conditions will exacerbate the now widely recognized imbalance between water supply and demand in the Colorado River Basin. Robust and flexible guidelines are needed to manage the Colorado River system and its resources under a broad range of potential future hydrologic conditions.

• Expanded and innovative use of conservation is needed: Recognizing the anticipated future low-runoff conditions in the Colorado River Basin, the Department has also determined a need for guidelines that provide Colorado River water users, including Basin Tribes, expanded opportunities to conserve, store, and take subsequent delivery of water in and from Lake Mead and/or Lake Powell. The guidelines should also support and integrate future efficiency improvements and opportunities for augmentation.

• Addressing tribal concerns regarding Colorado River Basin management is needed: Basin Tribes have expressed concern that the current approach to Colorado River water management is insufficient to address the range of interests, needs, and fundamental rights of the Basin Tribes. The Department has determined a need for guidelines that provide flexibility and predictability for Basin Tribes to remain able to benefit from their water rights and have an opportunity to participate in voluntary conservation programs.

The purpose for the proposed federal action is to:

• update and expand management guidelines for Colorado River reservoirs, particularly for Lake Powell and Lake Mead;

• provide Colorado River water users, a greater degree of predictability with respect to the amount of annual water available in future years under anticipated increasing variability, low runoff and low reservoir conditions;

• provide additional mechanisms for the conservation, storage and delivery of water supplies in Colorado River reservoirs;

• provide new or enhanced opportunities for Basin Tribes to benefit from their water rights; and

• provide flexibility to build resilience and accommodate future needs and growth that are supported by Colorado River water supplies, including the integration of unquantified tribal water rights once they are resolved.

DEIS Approach

The DEIS will consider the best scientific information currently available; actual operating experience since 2007; updated information on infrastructure considerations at Glen Canyon Dam and Hoover Dam; trade-offs between the frequency and magnitude of reductions in water deliveries; mechanisms to encourage water conservation, efficiency improvements, and augmentation; and the effect of water storage in Lake Powell and Lake Mead on water supply, power production, recreation, environmental resources, cultural resources, and other relevant resources and factors.

The geographic scope of the environmental analysis in the DEIS is dependent upon the range of alternatives developed in the DEIS and therefore will be determined later in the NEPA process.

Next Steps

With this Notice, the Department is transitioning to the next phase of the NEPA process, which is to develop alternatives for analysis in the DEIS. Reclamation has developed state-of-the-art web-based tools to encourage and facilitate stakeholder collaboration during this phase and intends to deploy these tools in the early stages of this phase in the fall. It is the Department's intent that these tools support the exploration and development of a broad range of reasonable alternatives and foster collaborative consensus-based approaches to alternative development.

Maria Camille Touton,
Commissioner, Bureau of Reclamation.

[FR Doc. 2023-23127 Filed 10-19-23; 8:45 am]

BILLING CODE 4332-90-P